DEPARTMENT OF AGRICULTURE

Animal and Plant Health Inspection Service

[Docket No. APHIS-2010-0114]

Notice of Availability of Pest Risk Analyses for the Importation of Fresh Edible Flowers of Izote, Immature Inflorescences of Pacaya, Immature Inflorescences of Chufle, and Fresh Leaves of Chipilin From El Salvador Into the Continental United States

AGENCY: Animal and Plant Health Inspection Service, USDA.

ACTION: Notice of availability and request for comments.

SUMMARY: We are advising the public that we have prepared pest risk analyses that evaluate the risks associated with the importation into the continental United States of fresh edible flowers of izote, immature inflorescences of pacaya, immature inflorescences of chufle, and fresh leaves of chipilin from El Salvador. Based on those analyses, we believe that the application of one or more designated phytosanitary measures will be sufficient to mitigate the risks of introducing or disseminating plant pests or noxious weeds via the importation of fresh edible flowers of izote, immature inflorescences of pacaya, immature inflorescences of chufle, and fresh leaves of chipilin from El Salvador. We are making the pest risk analyses available to the public for review and comment.

DATES: We will consider all comments that we receive on or before March 28, 2011.

ADDRESSES: You may submit comments by either of the following methods:

• Federal eRulemaking Portal: Go to http://www.regulations.gov/fdmspublic/component/main?main=DocketDetail&d=APHIS-2010-0114 to submit or view comments and to view supporting and related materials available electronically.

• Postal Mail/Commercial Delivery: Please send one copy of your comment to Docket No. APHIS-2010-0114, Regulatory Analysis and Development, PPD, APHIS, Station 3A-03.8, 4700 River Road Unit 118, Riverdale, MD 20737-1238. Please state that your comment refers to Docket No. APHIS-2010-0114.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Phillip B. Grove, Regulatory Coordinator, Regulatory Coordination and Compliance, PPQ, APHIS, 4700 River Road Unit 156, Riverdale, MD 20737-1236; (301) 734-6280.

SUPPLEMENTARY INFORMATION:

Background

Under the regulations in “Subpart—Fruits and Vegetables” (7 CFR 319.56-1 through 319.56-50, referred to below as the regulations), the Animal and Plant Health Inspection Service (APHIS) of the U.S. Department of Agriculture prohibits or restricts the importation of fruits and vegetables into the United States from certain parts of the world to prevent plant pests from being introduced into and spread within the United States.

Section 319.56-4 contains a performance-based process for approving the importation of commodities that, based on the findings of a pest risk analysis, can be safely imported subject to one or more of the designated phytosanitary measures listed in paragraph (b) of that section. These measures are:

• The fruits or vegetables are subject to inspection upon arrival in the United States and comply with all applicable provisions of § 319.56-3;

• The fruits or vegetables are imported from a pest-free area in the country of origin that meets the requirements of § 319.56-5 for freedom from that pest and are accompanied by a phytosanitary certificate stating that the fruits or vegetables originated in a pest-free area in the country of origin;

• The fruits or vegetables are treated in accordance with 7 CFR part 305;

• The fruits or vegetables are inspected in the country of origin by an inspector or an official of the national plant protection organization of the exporting country, and have been found free of one or more specific quarantine pests identified by the risk assessment as likely to follow the import pathway; and/or

• The fruits or vegetables are a commercial consignment.

APHIS received a request from the Government of El Salvador to allow the importation of edible fresh flowers of izote (Yucca guatemalensis Baker), immature inflorescences of pacaya (Chamaedorea tepejilote Liem.), immature inflorescences of chufle (Calathea macrosepala K. Schumm), and fresh leaves of Chipilin (Crotalaria longirostrata Hook and Arn.) from El Salvador into the continental United States. We have completed four pest risk assessments to identify pests of quarantine significance that could follow the pathway of importation into the United States and, based on those pest risk assessments, have prepared three risk management documents to identify phytosanitary measures that could be applied to fresh edible flowers of izote, immature inflorescences of pacaya, immature inflorescences of chufle, and fresh leaves of chipilin to mitigate the pest risk. We have concluded that fresh edible flowers of izote, immature inflorescences of pacaya, immature inflorescences of chufle, and fresh leaves of chipilin can be safely imported into the continental United States from El Salvador using one or more of the five designated phytosanitary measures listed in § 319.56-4(b). Therefore, in accordance with § 319.56-4(c), we are announcing the availability of our pest risk analyses for public review and comment. The pest risk analyses may be viewed on the Regulations.gov Web site or in our reading room (see ADDRESSES above for a link to Regulations.gov and information on the location and hours of the reading room). You may request paper copies of the pest risk analyses by calling or writing to the person listed under FOR FURTHER INFORMATION CONTACT. Please refer to the subject of the pest risk analysis you wish to review when requesting copies.

After reviewing any comments we receive, we will announce our decision regarding the import status of fresh edible flowers of izote, immature inflorescences of pacaya, immature inflorescences of chufle, and fresh leaves of chipilin from El Salvador in a subsequent notice. If the overall conclusions of the analysis and the Administrator's determination of risk remain unchanged following our consideration of the comments, then we will begin issuing permits for importation of fresh edible flowers of izote, immature inflorescences of pacaya, immature inflorescences of chufle, and fresh leaves of chipilin from El Salvador into the continental United States subject to the requirements specified in the risk management documents.

Authority: 7 U.S.C. 450, 7701-7772, and 7781-7786; 21 U.S.C. 136 and 136a; 7 CFR 2.22, 2.80, and 371.3.

Done in Washington, DC, this 19th day of January 2011.
Kevin Shea,
Acting Administrator, Animal and Plant Health Inspection Service.

[FR Doc. 2011-1509 Filed 1-24-11; 8:45 am]

BILLING CODE 3410-34-P